OFFICE OF THE DIRECTOR OF NATIONAL INTELLIGENCE

Notice of Meeting: National Intelligence University Board of Visitors

AGENCY: National Intelligence University (NIU), Office of the Director of National Intelligence (ODNI).

ACTION: Notice of federal advisory committee meeting.

SUMMARY: The ODNI is publishing this notice to announce that the following Federal Advisory Committee meeting of the National Intelligence University Board of Visitors will take place. This meeting is closed to the public.

DATES: Thursday June 8, 2023, 9:00 a.m. to 12:00 p.m., Bethesda, MD.

ADDRESSES: National Intelligence University, 4600 Sangamore Road, Bethesda, MD 20816.

FOR FURTHER INFORMATION CONTACT: Ms. Patricia “Patty” Larsen, Designated Federal Officer, (301) 243-2118 (Voice), excom@odni.gov (email). Mailing address is National Intelligence University, Roberdeau Hall, Washington, DC 20511. Website: http://ni-u.edu/wp/about-niu/leadership-2/board-of-visitors/.

SUPPLEMENTARY INFORMATION: This meeting is being held under the provisions of the Federal Advisory Committee Act (FACA) of 1972 (5 U.S.C. 1001-1014), the Government in the Sunshine Act of 1976 (5 U.S.C. 552b), and 41 CFR 102-3.140 and 102-3.150. The meeting includes the discussion of classified information and classified materials regarding intelligence education issues and the Director of National Intelligence, or her designee, in consultation with the ODNI Office of General Counsel, has determined the meeting will be closed to the public under the exemptions set forth in 5 U.S.C. 552b(c)(1) and 552b(c)(2).

I. Purpose of the Meeting: The Board will discuss critical issues and advise the Director of National Intelligence on controlled unclassified or classified information as defined in 5 U.S.C. 552b(c)(1) and discuss matters related solely to the internal personnel rules and practices of NIU under 5 U.S.C. 552b(c)(2) and therefore will be closed to the public.

II. Agenda: Welcome and Call to Order, Presidential Update, Presidential Candidates (Personnel), and Governance Discussion.

III. Meeting Accessibility: The public or interested organizations may submit written statements to the National Intelligence University Board of Visitors about its mission and functions. Written statements may be submitted at any time or in response to the stated agenda of a planned meeting of the National Intelligence University Board of Visitors.

IV. Written Statements: All written statements shall be submitted to the Designated Federal Officer for the National Intelligence University Board of Visitors, and this individual will ensure that the written statements are provided to the membership for their consideration.

Robert A. Newton,
Committee Management Officer and Deputy Chief Operating Officer.

[FR Doc. 2023-11367 Filed 5-26-23; 8:45 am]

BILLING CODE P